Title 3—

The President

Proclamation 7959 of November 3, 2005

Revoking Proclamation 7924

By the President of the United States of America

A Proclamation

WHEREAS, the provisions of subchapter IV of chapter 31 of title 40, United States Code, 40 U.S.C. 3141-3148, and the provisions of all other acts, Executive Orders, proclamations, rules, regulations, or other directives providing for the payment of wages, which provisions are dependent upon determinations by the Secretary of Labor under section 3142 of title 40, United States Code, were suspended by Proclamation 7924 of September 8, 2005, within specified geographic areas affected by Hurricane Katrina until otherwise provided;

NOW, THEREFORE, I, GEORGE W. BUSH, President of the United States of America, acting under the authority vested in me by the Constitution and the laws of the United States, including section 202 of the National Emergencies Act, 50 U.S.C. 1622, do by this Proclamation revoke, effective November 8, 2005, Proclamation 7924 as to all contracts for which bids are opened or negotiations concluded on or after November 8, 2005.

IN WITNESS WHEREOF, I have hereunto set my hand this third day of November, in the year of our Lord two thousand five, and of the Independence of the United States of America the two hundred and thirtieth.

B

[FR Doc. 05-22427

Filed 11-7-05; 9:32 am]

Billing code 3195-01-P